DEPARTMENT OF LABOR

Employment and Training Administration

[TA-W-39,520]

Nokia, Inc., Nokia Mobile Phones Alliance Gateway, Fort Worth, TX; Notice of Termination of Investigation

Pursuant to section 221 of the Trade Act of 1974, an investigation was initiated on July 2, 2001 in response to a worker petition which was filed on behalf of workers at Nokia, Inc., Nokia Mobile Phones, Alliance Gateway, Fort Worth, TX.

An active certification covering the petitioning group of workers is already in effect (TA-W-39,300). Consequently, further investigation in this case would serve no purpose, and the investigation has been terminated.

Signed in Washington, DC, this 26th day of October, 2001.
Linda G. Poole,
Certifying Officer, Division of Trade Adjustment Assistance.

[FR Doc. 01-28169 Filed 11-8-01; 8:45 am]

BILLING CODE 4510-30-M